DEPARTMENT OF TRANSPORTATION

Maritime Administration

[Docket No. USCG-2013-0363]

Deepwater Port License Application: Liberty Natural Gas LLC, Port Ambrose Deepwater Port

AGENCY: Maritime Administration, Department of Transportation.

ACTION: Notice of intent; notice of public meeting; request for comments; correction.

SUMMARY: The Maritime Administration (MarAd) published a Notice of Intent, Notice of Public Meeting, and Request for Comments regarding the Port Ambrose Deepwater Port License Application in the June 24, 2013, Federal Register. Shortly thereafter, on July 9, 2013, a correction was published in the Federal Register. In that correction, MarAd extended the closing date for receipt of materials in response to the request for comments to July 23, 2013. This notice corrects that publication and extends the closing date for receipt of materials in response to the request for comments to August 22, 2013.

FOR FURTHER INFORMATION CONTACT: Mr. Roddy Bachman, U.S. Coast Guard, telephone: 202-372-1451, email: Roddy.C.Bachman@uscg.mil, or Ms. Tracey Ford, Maritime Administration, telephone: 202-366-0321, email: Tracey.Ford@dot.gov. For questions regarding viewing the Docket, call Ms. Barbara Hairston, Program Manager, Docket Operations, telephone 202-366-9826.

Correction

In the Federal Register of June 24, 2013, in FR Doc. 2013-0363, on page 37878, in the second column, under the section captioned DATES in the last sentence of the second paragraph replace “July 14, 2013” with “August 22, 2013” so that the sentence reads: “Additionally, materials submitted in response to the request for comments on the license application must reach the Docket Management Facility as detailed below, by August 22, 2013.”

Dated: July 10, 2013.
By Order of the Maritime Administrator.
T. Mitchell Hudson, Jr.,
Assistant Secretary, Maritime Administration.

[FR Doc. 2013-17051 Filed 7-15-13; 8:45 am]

BILLING CODE 4910-81-P